NUCLEAR REGULATORY COMMISSION

Advisory Committee on Reactor Safeguards; Subcommittee Meeting on Thermal-Hydraulic Phenomena; Notice of Meeting

The ACRS Subcommittee on Thermal-Hydraulic Phenomena will hold a meeting on January 19, 2006, Room T-2B3, 11545 Rockville Pike, Rockville, Maryland.

The entire meeting will be open to public attendance, with the exception of portions that may be closed to discuss General Electric (GE) proprietary information pursuant to 5 U.S.C. 552b(c)(4).

The agenda for the subject meeting shall be as follows:

Thursday, January 19, 2006—8:30 a.m. Until the Conclusion of Business

The Subcommittee will review the analytical methods to be used to evaluate stability scenarios for the ESBWR and will hear the NRC staff's plan to revise Regulatory Guide 1.82, “Water Sources for Long-Term Recirculation Cooling Following a Loss-of-Coolant Accident.” The Subcommittee will hear presentations by and hold discussions with representatives of the NRC staff, their contractors, GE and other interested persons regarding this matter. The Subcommittee will gather information, analyze relevant issues and facts, and formulate proposed positions and actions, as appropriate, for deliberation by the full Committee.

Members of the public desiring to provide oral statements and/or written comments should notify the Designated Federal Official, Mr. Ralph Caruso (Telephone: 301-415-8065) five days prior to the meeting, if possible, so that appropriate arrangements can be made. Electronic recordings will be permitted only during those portions of the meeting that are open to the public.

Further information regarding this meeting can be obtained by contacting the Designated Federal Official between 7:30 a.m. and 4:15 p.m. (ET). Persons planning to attend this meeting are urged to contact the above named individual at least two working days prior to the meeting to be advised of any potential changes to the agenda.

Dated: December 15, 2005.
Michael L. Scott,
Branch Chief, ACRS/ACNW.

[FR Doc. 05-24429 Filed 12-22-05; 8:45 am]

BILLING CODE 7590-01-P